DEPARTMENT OF TRANSPORTATION

Federal Highway Administration

Notice of Final Federal Agency Actions on Proposed Transportation Projects in Florida

AGENCY: Federal Highway Administration (FHWA), DOT.

ACTION: Notice of limitation on claims for Judicial Review of actions by the FHWA and other Federal Agencies.

SUMMARY: The FHWA, on behalf of the Florida Department of Transportation (FDOT), is issuing this notice to announce actions taken by FHWA and other Federal Agencies that are final within the meaning of Federal law. These actions relate to the proposed Brooks Bridge replacement project which carries State Road (S.R.) 30/(U.S. 98) from S.R. 145 (Perry Avenue) in the City of Fort Walton Beach over the Santa Rosa Sound and the Gulf Intracoastal Waterway/Gulf Islands National Seashore, and include intersection improvements at S.R. 145 (Perry Avenue) on the west end of the bridge in the City of Fort Walton Beach and in the vicinity of Santa Rosa Boulevard, extending to Pier Road on the east end of Okaloosa Island in Okaloosa County, State of Florida. These actions grant licenses, permits, and approvals for the projects.

DATES: By this notice, FHWA, on behalf of FDOT, is advising the public of final agency actions subject to 23 U.S.C. 139(l)(1). A claim seeking judicial review of the Federal agency actions on the listed highway project will be barred unless the claim is filed on or before December 23, 2019. If the Federal law that authorizes judicial review of a claim provides a time period of less than 150 days for filing such claim, then that shorter time period still applies.

FOR FURTHER INFORMATION CONTACT: For FDOT: Jason Watts, Director, Office of Environmental Management, FDOT, 605 Suwannee Street, MS 37, Tallahassee, Florida 32399; telephone (850) 414-4316; email: Jason.watts@dot.state.fl.us.

The FDOT Office of Environmental Management's normal business hours are 8:00 a.m. to 5:00 p.m. (Eastern Standard Time), Monday through Friday, except State holidays.

SUPPLEMENTARY INFORMATION: Effective December 14, 2016, the Federal Highway Administration (FHWA) assigned, and the FDOT assumed, environmental responsibilities for this project pursuant to 23 U.S.C. 327. Notice is hereby given that FHWA and other Federal Agencies have taken final agency action subject to 23 U.S.C. 139 (l)(1) by issuing licenses, permits, and approvals for the project listed below. The actions by the Federal Agencies on the project, and the laws under which such actions were taken, are described in the final Environmental Assessment (EA)/Section 4(f) de minimis Evaluation and Finding of No Significant Impact (FONSI) in connection with the project, and in other project records for the listed project. The EA/Section 4(f) de minimis and FONSI and other documents for the listed project are available by contacting the FDOT at the address provided above. The FDOT EA/Section 4(f) de minimis and FONSI can be viewed and downloaded from the project website at https://nwflroads.com/folders/?Projects%2FOkaloosa%2F415474-2%2Fmtgdocs. Additional project documents can be found at https://nwflroads.com/projects/415474-2.

This notice applies to all Federal Agency decisions by issuing licenses, permits, and approvals as of the issuance date of this notice and all laws under which such actions were taken, including but not limited to:

1. General: National Environmental Policy Act (NEPA) [42 U.S.C. 4321-4351; Federal-Aid Highway Act (FAHA) [23 U.S.C. 109 and 23 U.S.C. 128].

2. Air: Clean Air Act (CAA), 42 U.S.C. 7401-7671(q).

3. Land: Section 4(f) of the Department of Transportation Act of 1966 (4f) [49 U.S.C. 303 and 23 U.S.C. 138].

4. Wildlife: Endangered Species Act (ESA) [16 U.S.C. 1531-1544 and 1536]; Marine Mammal Protection Act [16 U.S.C. 1361], Fish and Wildlife Coordination Act [16 U.S.C. 661-667(d); Migratory Bird Treaty Act (MBTA) [16 U.S.C. 703-712]; Magnuson-Stevenson Fishery Conservation and Management Act of 1976, as amended [16 U.S.C. 1801 et seq.].

5. Historic and Cultural Resources: Section 106 of the National Historic Preservation Act of 1966, as amended (106) [16 U.S.C. 470(f) et seq.]; Archaeological Resources Protection Act of 1977 (ARPA) [16 U.S.C. 470(aa)-470(II)]; Archaeological and Historic Preservation Act (AHPA) [16 U.S.C. 469-469(c)]; Native American Grave Protection and Repatriation Act (NAGPRA) [25 U.S.C. 3001-3013].

6. Social and Economic: Civil Rights Act of 1964 (Civil Rights) [42 U.S.C. 20009(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barriers Resources Act (CBRA) [16 U.S.C. 3501 et seq.]; Coastal Zone Management Act (CZMA) [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; Wetlands Mitigation, [23 U.S.C. 103(b)(6)(M) and 103(b)(11)]; Flood Disaster Protection Act [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13287 Preserve America; E.O. 13175 Consultation and Coordination with Indian Tribal Governments; E.O. 11514 Protection and Enhancement of Environmental Quality; E.O. 13112 Invasive Species.

The project subject to this notice is:

Project Location: Okaloosa County, Florida—S.R.30/U.S. 98 in the City of Fort Walton Beach, extending to Pier Road on Okaloosa Island, crossing the Gulf Intracoastal Waterway and the National Park Service Gulf Islands National Seashore, Federal Project No: 4221-085-P. This project involves replacement of the John T. Brooks Bridge which carries S.R. 30/U.S. 98 over the Santa Rosa Sound and Gulf Intracoastal Waterway in Okaloosa County. To accommodate the bridge replacement, intersection improvements are necessary at S.R. 145 (Perry Avenue) on the west end of the bridge in the City of Fort Walton Beach, and in the vicinity of Santa Rosa Boulevard, extending to Pier Road on the east end on Okaloosa Island. Stormwater treatment facilities are proposed. The project will result in a de minimis use of the National Park Service Gulf Islands National Seashore under Section 4(f) of the U.S. Department of Transportation Act, 23 CFR 774.3(b).

(Catalog of Federal Domestic Assistance Program Number 20.205, Highway Planning and Construction. The regulations implementing Executive Order 12372 regarding intergovernmental consultation on Federal programs and activities apply to this program.)

Authority: 23 U.S.C. 139(l)(1).

Issued on: June 24, 2019.
Karen M. Brunelle,
Director, Office of Project Development, Federal Highway Administration, Tallahassee, Florida.

[FR Doc. 2019-15792 Filed 7-25-19; 8:45 am]

BILLING CODE 4910-RY-P